DEPARTMENT OF STATE

[Public Notice: 11111]

Foreign Affairs Policy Board Meeting Notice

ACTION: Notice of closed meeting.

SUMMARY: The Department of State announces a meeting of the Foreign Affairs Policy Board to take place on June 1, 2020. Pursuant to section 10(d) of the Federal Advisory Committee Act, it has been determined that this meeting will be closed to the public as the Board will be reviewing and discussing matters properly classified in accordance with the Executive Order titled, “Classified National Security Information.”

FOR FURTHER INFORMATION CONTACT: Duncan Walker, Office of Policy Planning, U.S. Department of State, Washington, DC 20520, phone: (202) 647-2236.

SUPPLEMENTARY INFORMATION: The Foreign Affairs Policy Board reviews and assesses: (1) Global threats and opportunities; (2) trends that implicate core national security interests; (3) technology tools needed to advance the State Department's mission; and (4) priorities and strategic frameworks for U.S. foreign policy.

Duncan H. Walker,
Designated Federal Officer, Office of Policy Planning, Department of State.

[FR Doc. 2020-09887 Filed 5-7-20; 8:45 am]

BILLING CODE 4710-10-P